DEPARTMENT OF STATE

[Public Notice 9004]

60-Day Notice of Proposed Information Collection: Application for Immigrant Visa and Alien Registration

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to March 23, 2015.

ADDRESSES: You may submit comments by any of the following methods:

• Web: Persons with access to the Internet may comment on this notice by going to www.Regulations.gov. You can search for the document by entering “Docket Number: DOS-2015-0001” in the search field. Then click the “Comment Now” button and complete the comment form.

• Email: PRA_BurdenComments@state.gov.

You must include the DS form number (if applicable), information collection title, and the OMB control number in any correspondence.

FOR FURTHER INFORMATION CONTACT: Direct requests for additional information regarding the collection listed in this notice, including requests for copies of the proposed collection instrument and supporting documents, to Sydney Taylor at PRA_BurdenComments@state.gov.

SUPPLEMENTARY INFORMATION: • Title of Information Collection: Application for Immigrant Visa and Alien Registration.

• OMB Control Number: 1405-0015.

• Type of Request: Extension of a Currently Approved Application.

• Originating Office: CA/VO/L/R.

• Form Number: DS-230.

• Respondents: Immigrant Visa Applicants.

• Estimated Number of Respondents: 5,000 respondents.

• Estimated Number of Responses: 5,000 responses.

• Average Time per Response: 2 hours.

• Total Estimated Burden Time: 10,000 hours.

• Frequency: Once per Respondent.

• Obligation to Respond: Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of proposed collection:

Department of State consular officers use Form DS-230 (Application for Immigrant Visa and Alien Registration), in conjunction with a personal interview and other requirements set forth in 22 CFR part 42, subpart G, to elicit information necessary to ascertain the applicability of the legal requirements to issue an immigrant visa. The information requested on the form is limited to that which is necessary for consular officers to determine the eligibility and classification of aliens seeking immigrant visas to the United States efficiently. A consular officer is unable to adjudicate such visas without collecting this information.

Methodology:

The DS-230 is available electronically via the internet and is downloaded, completed online, printed and submitted to the National Visa Center (NVC). The web address where the DS-230 can be accessed is http://travel.state.gov/content/visas/english/forms.html.

Dated: January 5, 2015.
Edward Ramotowski,
Deputy Assistant Secretary, Bureau of Consular Affairs, Department of State.

[FR Doc. 2015-00783 Filed 1-16-15; 8:45 am]

BILLING CODE 4710-06-P